DEPARTMENT OF ENERGY

Federal Energy Regulatory Commission

[Docket No. CP11-473-000]

Transcontinental Gas Pipe Line Company, LLC; Notice of Request Under Blanket Authorization

Take notice that on May 5, 2011 Transcontinental Gas Pipe Line Company, LLC (Transco), Post Office Box 1396, Houston, Texas 77251, pursuant to section 7 of the Natural Gas Act, the prior notice procedures prescribed by sections 157.205 and 157.216 of the Federal Energy Regulatory Commission's Regulations, and Transco's blanket certificate issued in Docket No. CP82-426, filed a request for authorization to abandon by sale to Williams Field Services—Gulf Coast Company, L.P.¹ (WFS) an existing 10-inch natural gas pipeline located in St. Charles, St. James and St. John the Baptist Parishes, Louisiana extending eastward 18.55 miles and appurtenant facilities. Transco states that the total cost of the abandonment is estimated to be approximately $125,000, all as more fully set forth in the application, which is open to the public for inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

¹ WFS is a Delaware limited partnership having an address of One Williams Center, Tulsa, Oklahoma 74172.

Any questions regarding this prior notice should be directed to Nan Miksovsky, Transcontinental Gas Pipe Line Company, LLC, P.O. Box 1396, Houston, Texas 77251, or by telephone no. (713) 215-3422.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link. Persons unable to file electronically should submit an original and 14 copies of the protest or intervention to the Federal Energy regulatory Commission, 888 First Street, NE., Washington, DC 20426.

Comment Date: June 7, 2011.

Dated: May 17, 2011.
Kimberly D. Bose,
Secretary.

[FR Doc. 2011-12602 Filed 5-20-11; 8:45 am]

BILLING CODE 6717-01-P